DEPARTMENT OF HOMELAND SECURITY

Coast Guard

33 CFR Parts 151 and 158

46 CFR Parts 30, 98, 151, and 153

[USCG-2006-26341]

Revised MARPOL Annex II and IBC Code Implementation: Publication of Guidelines

AGENCY: Coast Guard, DHS.

ACTION: Notice of availability.

SUMMARY: The Coast Guard announces the availability of Navigation and Vessel Inspection Circular (NVIC) No. 03-06, titled “Guidance on Implementation of Revisions to MARPOL Annex II and the IBC Code.” This NVIC provides guidelines on how the revisions to Annex II of the International Convention for the Prevention of Pollution from Ships, 1973, as modified by the Protocol of 1978 relating thereto (MARPOL), and the International Code for the Construction and Equipment of Ships Carrying Dangerous Chemicals in Bulk (IBC Code) will be implemented in the U.S. These revisions come into force internationally on January 1, 2007.

DATES: The Coast Guard issued NVIC 03-06 on November 28, 2006.

ADDRESSES: You may request a copy of NVIC 03-06 from U.S. Coast Guard Headquarters (CG-3PSO-3), Room 1214, 2100 2nd Street, SW., Washington, DC 20593. The NVIC is available on the Internet at: http://www.uscg.mil/hq/g-m/nvic/index.htm. It is also available in the public docket (USCG-2006-26341) and is available for inspection or copying at the Docket Management Facility, U.S. Department of Transportation, room PL-402, 400 Seventh Street, SW., Washington, DC, between 9 a.m. and 5 p.m., Monday through Friday, except Federal holidays. You may also find this public docket on the Internet at http://www.dms.dot.gov/.

FOR FURTHER INFORMATION CONTACT: For questions on this notice, contact LT Jennifer Stockwell, Hazardous Materials Standards Division, U.S. Coast Guard, telephone 202-372-1419, e-mail: Hazmat@comdt.uscg.mil. If you have questions on viewing or submitting material to the docket, call Renee V. Wright, Program Manager, Docket Operations, telephone 202-493-0402.

SUPPLEMENTARY INFORMATION: In a letter to the International Maritime Organization (IMO) dated October 10, 2006, the Coast Guard sought to explain the effect of the revised Annex II and amended IBC Code for foreign ships trading at U.S. ports and U.S.-flag ships trading at foreign ports. That letter also advised the IMO that a relevant NVIC would be forthcoming and available online. On November 28, 2006, the Coast Guard issued NVIC 03-06. NVIC 03-06 provides guidance to foreign and U.S. vessels operating in U.S. waters that carry Noxious Liquid Substances (NLSs) in bulk, reception facilities that handle these products, and Coast Guard personnel conducting inspections and examinations. This NVIC addresses numerous implementation issues for owners and operators of vessels and reception facilities, and Coast Guard personnel with respect to the revised MARPOL Annex II, IBC Code, and current U.S. regulations. The Coast Guard encourages all affected parties to review NVIC 03-06 to ensure compliance with the revisions to MARPOL Annex II, IBC Code, and all applicable U.S. regulations. NVIC 03-06 encourages voluntary compliance, but is not intended to and does not impose legally binding requirements on any party outside the Coast Guard.

Dated: November 29, 2006.
J. G. Lantz,
Director of National and International Standards, Office of the Assistant Commandant for Prevention.

[FR Doc. E6-21335 Filed 12-14-06; 8:45 am]

BILLING CODE 4910-15-P